SMALL BUSINESS ADMINISTRATION

[Disaster Declaration #20407 and #20408; NEW MEXICO Disaster Number NM-20004]

Presidential Declaration Amendment of a Major Disaster for the State of New Mexico

AGENCY: U.S. Small Business Administration.

ACTION: Amendment 1.

SUMMARY: This is an amendment of the Presidential declaration of a major disaster for the State of New Mexico (FEMA-4795-DR), dated 06/20/2024.

Incident: South Fork Fire, Salt Fire, and Flooding.

Incident Period: 06/17/2024 and continuing.

DATES: Issued on 06/23/2024.

Physical Loan Application Deadline Date: 08/19/2024.

Economic Injury (EIDL) Loan Application Deadline Date: 03/20/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of New Mexico, dated 06/20/2024, is hereby amended to change the incident to the South Fork Fire, Salt Fire, and Flooding. This disaster declaration is also amended to include the following areas as adversely affected by the disaster:

Primary Counties (Physical Damage and Economic Injury Loans): Otero.

Contiguous Counties (Economic Injury Loans Only):

New Mexico: Doña Ana, Eddy.

Texas: Culberson, El Paso, Hudspeth

All other information in the original declaration remains unchanged.

(Catalog of Federal Domestic Assistance Number 59008)

Francisco Sánchez, Jr.,
Associate Administrator, Office of Disaster Recovery & Resilience.

[FR Doc. 2024-14096 Filed 6-26-24; 8:45 am]

BILLING CODE 8026-09-P